DEPARTMENT OF COMMERCE

Foreign-Trade Zones Board

[Docket 19-2001]

Proposed Foreign-Trade Zone—Jefferson County, Pennsylvania Application and Public Hearing

An application has been submitted to the Foreign-Trade Zones (FTZ) Board (the Board) by the North Central Pennsylvania Regional Planning and Development Commission (a Pennsylvania not-for-profit corporation), to establish a general-purpose foreign-trade zone in Washington Township, Jefferson County, Pennsylvania, adjacent to the Pittsburgh Customs port of entry. The application was submitted pursuant to the provisions of the FTZ Act, as amended (19 U.S.C. 81a-81u), and the regulations of the Board (15 CFR part 400). It was formally filed on April 27, 2001. The applicant is authorized to make the proposal under Pennsylvania Consolidated Statute, Title 66, Chapter 31 of Act 116 of 1978.

The proposed zone would be the second general-purpose zone in the Pittsburgh Customs port of entry area. The existing zone is FTZ 33 in Pittsburgh, Pennsylvania (Grantee: Regional Industrial Development Corporation of Southwestern Pennsylvania, Board Order 124, 42 FR 59398, 11/17/77).

The proposed new zone (337 acres) would be located at the DuBois-Jefferson County Airport complex, Route 830, Washington Township, Falls Creek. The proposed zone project is part of the applicant's economic development efforts which cover a six county region (Cameron, Clearfield, Elk, Jefferson, McKean and Potter). The proposed zone site is owned by the Clearfield-Jefferson Counties Regional Airport Authority and is also part of the Keystone Opportunity Zone, a local and state tax exemption program.

The application indicates a need for foreign-trade zone services in the north central Pennsylvania region. Several firms have indicated using zone procedures for such items as powdered metal parts, wood products, electronic card connectors, and glass food containers. Specific manufacturing approvals are not being sought at this time. Requests would be made to the Board on a case-by-case basis.

In accordance with the Board's regulations, a member of the FTZ Staff has been designated examiner to investigate the application and report to the Board.

As part of the investigation, the Commerce examiner will hold a public hearing on June 5, 2001, at 1 p.m., Jefferson County Court House, Main Court Room, Brookville, Pennsylvania 15825.

Public comment on the application is invited from interested parties. Submissions (original and 3 copies) shall be addressed to the Board's Executive Secretary at the address below. The closing period for their receipt is July 6, 2001. Rebuttal comments in response to material submitted during the foregoing period may be submitted during the subsequent 15-day period (to July 23, 2001).

A copy of the application and accompanying exhibits will be available during this time for public inspection at the following locations: DuBois-Jefferson County Airport, Route 830, Falls Creek, PA 15840; Office of the Executive Secretary, Foreign-Trade Zones Board, Room 4008, U.S. Department of Commerce, 14th and Pennsylvania Avenue, NW., Washington, DC 20230.

Dated: April 30, 2001.
Dennis Puccinelli,
Executive Secretary.

[FR Doc. 01-11434 Filed 5-4-01; 8:45 am]

BILLING CODE 3510-D5-P